FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 008005-013.

Title: New York Terminal Conference Agreement.

Parties: American Stevedoring Inc.; APM Terminals Elizabeth, LLC; Port Newark Container Terminal LLC; GCT Bayonne LP; GCT New York LP; and Red Hook Container Terminal, LLC.

Filing Party: Samuel Eric Lee; Holland & Knight LLP; 800 17th Street, Suite 1100, Washington, DC 20006.

Synopsis: The amendment appoints a new agent consistent with the terms of the Agreement.

Agreement No.: 012224-001.

Title: Seaboard/King Ocean Space Charter Agreement.

Parties: Seaboard Marine Ltd. and King Ocean Services Limited, Inc.

Filing Party: Wayne R. Rohde, Esq.; Cozen O'Connor; 1200 Nineteenth St. NW., Washington, DC 20036.

Synopsis: The amendment would reduce the amount of space to be chartered and revise Article 7 to extend the minimum duration of the Agreement.

Agreement No.: 012418.

Title: CMA CGM/ELJSA Slot Exchange Agreement Asia—U.S. East Coast.

Parties: CMA CGM S.A. and ELJSA Line Joint Service Agreement.

Filing Party: Paul M. Keane, Esq.; Cichanowicz, Callan, Keane & DeMay, LLP; 50 Main Street, Suite 1045, White Plains, NY 10606.

Synopsis: The Agreement authorizes the parties to exchange slots in the trade between the U.S. East and Gulf Coasts on the one hand, and Singapore, China, Korea, and Panama on the other hand.

Agreement No.: 012419.

Title: Sealand/ELJSA Vessel Sharing Agreement.

Parties: Maersk Line A/S, d/b/a Sealand and Evergreen Line Joint Service Agreement.

Filing Party: Wayne R. Rohde, Esq.; Cozen O'Conner; 1200 Nineteenth Street NW., Washington, DC 20036.

Synopsis: The agreement authorizes the parties to share vessels in the trade between Puerto Rico on the one hand and ports in Panama and the Dominican Republic on the other hand.

Agreement No.: 012420.

Title: Port of New York/New Jersey Equipment Optimization Discussion Agreement.

Parties: Ocean Carrier Equipment Management Association Agreement (OCEMA) and the Port Authority of New York and New Jersey (Port Authority).

Filing Party: Jeffrey F. Lawrence and Donald J. Kassilke; Cozen O'Connor; 1200 Nineteenth Street NW., Washington, DC 20036.

Synopsis: The Agreement would authorize the Parties to collect and exchange information, discuss, and reach agreement upon matters relating to cargo throughput, safety, intermodal equipment supply and efficiencies, congestion relief, port and terminal infrastructure, financing of improvements, and clean air or other environmental initiatives affecting operations in and around the Port of New York and New Jersey.

Agreement No.: 012421.

Title: “K” Line/Hyundai Glovis Co., Ltd. U.S./Mexioco Space Charter Agreement.

Parties: Hyundai Glovis Co., Ltd. and Kawasaki Kisen Kaisha, Ltd..

Filing Party: Wayne Rohde, Esq.; Cozen O'Connor; 1200 Nineteenth Street NW., Washington, DC 20036.

Synopsis: The Agreement authorizes the Parties to charter space to/from one another on an ad hoc basis for the carriage of ro-ro cargoes in the trades between the U.S. East and West Coasts on the one hand and ports on the East and West Coasts of Mexico on the other hand.

By Order of the Federal Maritime Commission.
Dated: June 24, 2016.
Karen V. Gregory,
Secretary.

[FR Doc. 2016-15418 Filed 6-28-16; 8:45 am]

BILLING CODE 6731-AA-P